FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011741-007.

Title: U.S. Pacific Coast-Oceania Agreement.

Parties: A.P. Moller-Maersk A/S; Australia-New Zealand Direct Line; Lykes Lines Limited LLC; FESCO Ocean Management Limited; Hamburg-Süd; P&O Nedlloyd Limited; and P&O Nedlloyd B.V.

Filing Party: Wayne R. Rohde, Esq.; Sher & Blackwell LLP; 1850 M Street, NW., Washington, DC 20036.

Synopsis: The amendment changes the name of Lykes Lines

Limited to CP Ships USA, LLC.

Agreement No.: 011777-001.

Title: CP Ships/CCNI Slot Charter Agreement.

Parties: Lykes Lines Limited LLP and Compania Chilena de Navegacion Interoceanica S.A.

Filing Party: Wayne R. Rohde, Esq.; Sher & Blackwell LLP; 1850 M Street, NW., Washington, DC 20036.

Synopsis: The amendment changes Lykes Lines' name to CP Ships USA, LLC, updates CCNI's name and address, deletes obsolete material, and restates the agreement.

Agreement No.: 011839-002

Title: Med-Gulf Space Charter Agreement

Parties: Lykes Lines Limited LLC, Compania Chilena de Navegacion Interoceanica, and Compania Sud Americana de Vapores S.A.

Filing Party: Wayne R. Rohde, Esq.; Sher & Blackwell LLP; 1850 M Street, NW., Washington, DC 20036.

Synopsis: The amendment deletes Compania Chilena de Navegacion Interoceanica as a party, changes the name of Lykes Lines Limited to CP Ships USA, LLC, and restates the agreement.

Agreement No.: 011872-001.

Title: USATLAN Cross Space Charter, Sailing and Cooperative Working Agreement.

Parties: Compania Sud Americana de Vapores S.A., Companhia Libra de Navegacao, and Montemar Maritima S.A.

Filing Party: Walter H. Lion, Esq; McLaughlin & Stern, LLP; 260 Madison Avenue; New York, New York 10016.

Synopsis: The amendment deletes CMA CGM, S.A. as a party to the agreement, makes corresponding changes to reflect CMA's resignation, and renames the agreement.

Agreement No.: 011915.

Title: CSAV/NYK Venezuela Space Charter Agreement.

Parties: Compania Sud Americana de Vapores and Nippon Yusen Kaisha.

Filing Party: Walter H. Lion, Esq.; McLaughlin & Stern, LLP; 260 Madison Avenue; New York, NY 10016.

Synopsis: The agreement authorizes CSAV to charter space to NYK for the carriage of motor vehicles in the trade between the Port of Baltimore and ports in Venezuela.

Agreement No.: 011916.

Title: APL/MOL 2005 Peak Season Space Charter Agreement.

Parties: American President Lines, Ltd.; APL Co. PTE, Ltd.; and Mitsui O.S.K. Lines, Ltd.

Filing Party: Eric C. Jeffrey, Esq.; Goodwin Proctor LLP; 901 New York Avenue, NW., Washington, DC 20001.

Synopsis: The agreement authorizes the parties to share vessel space in the trade between the U.S. West Coast, on the one hand, and China and Taiwan, on the other.

Dated: June 24, 2005.
By Order of the Federal Maritime Commission.
Bryant L. VanBrakle,
Secretary.

[FR Doc. 05-12851 Filed 6-28-05; 8:45 am]

BILLING CODE 6730-01-P